Proclamation 7455 of July 12, 2001

Captive Nations Week, 2001

By the President of the United States of America

A Proclamation

The 21st century must become the “Century of Democracy.” Democracy and freedom have taken root across the globe, and the United States will continue to stand for greater consolidation of pluralism and religious freedom, wider access to information, and respect for human rights and for the rule of law. Our Nation and many of our allies share this vision for the world. In the words of President Ronald Reagan, “For the sake of peace and justice, let us move toward a world in which all people are at last free to determine their own destiny.”

During the 20th century, dictators, monarchs, and colonialism gave way to democracy through ballot boxes, pressure from citizens, and negotiated settlements to conflicts. However, freedom and liberty remained out of reach for many. In 1959, the Congress promulgated a Joint Resolution authorizing and requesting the President to declare the third week of July as Captive Nations Week and to continue this annual statement “until such time as freedom and independence shall have been achieved for all the captive nations of the world.”

Worldwide, many nations have successfully made transitions to democracy since President Eisenhower signed the Captive Nations Resolution. These democracies, whether nascent or consolidated, are found in areas that the great General and 34th President could have barely imagined would find freedom before the 20th century closed.

In spite of the proliferation of democracies over the past century, many people across the globe are held captive by their governments. More than a decade after the Berlin Wall fell, more than 2 billion people still live under authoritarian regimes. America must remain vigilant in our support of those living under authoritarianism. There remain people in Asia, the Americas, Europe, the Middle East, Africa, and Central Asia who do not enjoy the right to choose their own governments and to hold those governments accountable.

Americans and the 3 billion others across the globe living in democracies desire the same freedoms for the remaining 42 percent of the world's population who live without them. But as long as governments like those in Afghanistan, Burma, Cuba, Iraq, and Sudan exist, freedom is not accessible to all. Greater access to robust marketplaces of ideas, as well as freedom of worship and expression, will empower those living in closed societies. Strong and transparent judicial systems and respect for human rights and the rule of law also serve as necessary foundations for democracy.

To promote the development of democratic practices worldwide, I reaffirm America's support for freedom, justice, and pluralism. I have asked my Administration to examine our programs to support democracy and human rights movements closely and to ensure that these programs advance American policy. In addition, I want to make certain that our annual State Department human rights, trafficking in persons, and religious freedom reports are integrated into American foreign policy.

The Congress, by Joint Resolution approved July 17, 1959 (73 Stat. 212), has authorized and requested the President to issue a proclamation designating the third week in July of each year as “Captive Nations Week.”

NOW, THEREFORE, I, GEORGE W. BUSH, President of the United States of America, do hereby proclaim July 15-21, 2001, as Captive Nations Week. I call upon the people of the United States to observe this week with appropriate ceremonies and activities and to reaffirm their devotion to the aspirations of all peoples for liberty, justice, and self-determination.

IN WITNESS WHEREOF, I have hereunto set my hand this twelfth day of July, in the year of our Lord two thousand one, and of the Independence of the United States of America the two hundred and twenty-sixth.

B

[FR Doc. 01-17966

Filed 07-16-01; 8:45 am]

Billing code 3195-01-P